DEPARTMENT OF AGRICULTURE

Rural Utilities Service

Energy Efficiency and Conservation Loan Program Finding of No Significant Impact

AGENCY: Rural Utilities Service, USDA.

ACTION: Notice of availability of a Finding of No Significant Impact.

SUMMARY: Notice is hereby given that the U.S. Department of Agriculture, Rural Utilities Service (RUS) has made a finding of no significant impact (FONSI) for implementing its new Energy Efficiency and Conservation Loan Program. The FONSI decision document is based on impact analysis documented in a programmatic environmental assessment of the new program that was issued for 30-day public comment beginning February 26, 2013.

FOR FURTHER INFORMATION CONTACT: Deirdre M. Remley, Environmental Protection Specialist, RUS, Water and Environmental Programs, Engineering and Environmental Staff, 1400 Independence Avenue SW., Stop 1571, Washington, DC 20250-1571, Telephone: (202) 720-9640 or email: deirdre.remley@wdc.usda.gov. The FONSI is available online at http://www.rurdev.usda.gov/UWP-ea.htm or you may contact Ms. Remley for a hard copy.

SUPPLEMENTARY INFORMATION: On May 22, 2008, the U.S. Congress enacted the Food, Conservation, and Energy Act of 2008 (2008 Farm Bill) as Public Law 110-234. The 2008 Farm Bill amended Section 12 to authorize energy audits and energy efficiency measures and devices to reduce demand on electric systems. Section 6101 of the 2008 Farm Bill amended Sections 2(a) and 4 of the Rural Electrification Act (RE Act) by inserting “efficiency and” before “conservation” each place it appears. Under the authority of the “efficiency” provisions added to the RE Act by the 2008 Farm Bill, RUS proposes to amend 7 CFR part 1710 by adding a new subpart H entitled “Energy Efficiency and Conservation Loan Program,” which expands upon policies and procedures specific to loans for a new Energy Efficiency and Conservation Loan program. The program would provide loans to eligible rural utility providers (Primary Recipients) who would act as intermediaries to make Energy Efficiency (EE) loans to consumers (Ultimate Recipients) in the Primary Recipients' service territories for EE improvements at the Ultimate Recipients' premises.

This program is funded through existing authorizations and appropriations. RUS expects that $250 million per year will be dedicated to the EE program. On July 26, 2012, RUS published a proposed rulemaking in the Federal Register at 77 FR 43723, with a 60-day comment period, for the subpart H of 7 CFR part 1710, which would implement the EE program. The final rule will outline the procedures for providing loans to eligible Primary Recipients who will establish EE activities in their service territories and to pay reasonable administrative expenses associated with their loans under the program. The proposed rule defines an “Eligible Borrower” (Primary Recipient) as an electric utility that has direct or indirect responsibility for providing retail electric service to persons in a rural area.

Certain financing actions taken by RUS are Federal actions subject to compliance with the National Environmental Policy Act of 1969 (NEPA) (42 U.S.C. 4321 et seq.), the Council on Environmental Quality (CEQ) regulations implementing the procedural provisions of NEPA (40 CFR parts 1500-1508), and RUS “Environmental Policies and Procedures” (7 CFR part 1794). The Programmatic Environmental Assessment (PEA) considered two Federal actions under the new EE program: (1) Loans awarded by RUS to Primary Recipients, and (2) Loans and other EE activities that the Primary Recipient executes for the benefit of Ultimate Recipients.

Based on its analysis in the PEA for the EE program, RUS has concluded that agency actions implementing the new program would have no significant impact to the quality of the human environment. Therefore, RUS will not prepare an environmental impact statement for its rulemaking adding subpart H to 7 CFR part 1710 nor its actions related to implementing the EE program. The FONSI will be available on RUS's Web site at http://www.rurdev.usda.gov/UWP-ea.htm.

Dated: July 2, 2013.
Nivin Elgohary,
Assistant Administrator, Electric Programs, USDA, Rural Utilities Service.

[FR Doc. 2013-19954 Filed 8-15-13; 8:45 am]

BILLING CODE 3410-15-P